Presidential Determination No. 2010-14 of September 3, 2010—Unexpected Urgent Refugee And Migration Needs Resulting From Flooding In Pakistan

Correction

In Presidential document 2010-27673 beginning on page 67015 in the issue of Monday, November 1, 2010, make the following correction:

On page 67015, the Presidential Determination number should read “2010-14”

[FR Doc. C1-2010-27673

Filed 11-5-10; 8:45 am]

Billing Code 1505-01-D